DEPARTMENT OF TRANSPORTATION

Surface Transportation Board

[STB Finance Docket No. 34909]

CSX Transportation, Inc., Norfolk Southern Railway Company, and Consolidated Rail Corporation—Joint Use and Operation Exemption

AGENCY: Surface Transportation Board, DoT.

ACTION: Notice of exemption.

SUMMARY: Under 49 U.S.C. 10502, the Board is granting a petition for exemption from the prior approval requirements of 49 U.S.C. 11323-25 for petitioners to provide for the joint use and joint rail freight operations over 7.69 miles of abandoned rail line of the former Staten Island Railway Corporation ¹ in New York and New Jersey, lying generally between the Conrail Chemical Coast Line and points on Staten Island, NY, subject to appropriate employee protective conditions.² The line consists of two segments as follows: (a) The North Shore Line between the end of track at milepost 4.6 at Union Avenue east of Arlington Yard, Richmond County, NY, and milepost 7.4, via the Chemical Coast Connector, at the proposed point of switch at the connection between the Chemical Coast Connector and Conrail's Chemical Coast Line in Union County, NJ, a distance of 2.8 miles; and (b) the Travis Branch between milepost 0.00 Arlington Yard Station and milepost 4.41 in Richmond County, a distance of 4.41 miles. Included within the North Shore Line segment are all tracks in Arlington Yard together with lead tracks on both the east and west ends of the yard, the so-called Wye Connector, that provides a direct connection to the Travis Branch from the North Shore Line and a track designated as the Travis Lead that provides a connection to and from the Travis Branch to the east end of Arlington Yard.³ Petitioners have asked for expedited consideration of the petition.

¹ See Staten Island Railway Corporation—Abandonment Exemption—in Richmond County, NY, Docket No. AB-263 (Sub-No. 2X) (ICC served July 3, 1990), and Staten Island Railway Corporation—Abandonment, Docket No. AB-263 (Sub-No. 3) (ICC served Dec. 5, 1991). The lines were subsequently acquired by the New York City Economic Development Corporation (NYCEDC) and the Port Authority of New York and New Jersey (Port Authority).

² Notice of the filing and a request for comments was served and published in the Federal Register on August 25, 2006 (71 FR 50500-01). Comments in support of the petition were filed by Mayor Michael R. Bloomberg of the City of New York, NYCEDC and the Port Authority. No comments were filed in opposition.

³ Petitioners concurrently filed a Notice of Modified Certificate of Public Convenience and Necessity to operate the subject line in STB Finance Docket No. 34908, CSX Transportation, Inc., Norfolk Southern Railway Company, and Consolidated Rail Corporation—Modified Rail Certificate. That request was granted by decision served and published in the Federal Register on August 25, 2006 (71 FR 50499-50500).

DATES: The exemption will be effective on October 8, 2006. Petitions to reopen must be filed by October 25, 2006.

ADDRESSES: An original and 10 copies of all pleadings, referring to STB Finance Docket No. 34909, must be filed with the Surface Transportation Board, 1925 K Street, NW., Washington, DC 20423-0001. In addition, one copy of all pleadings must be served on petitioners' representatives: Louis E. Gitomer, 600 Baltimore Avenue, Suite 301, Towson, MD 21204, Peter J. Shudtz, 1331 Pennsylvania Avenue NW., Suite 560, Washington, DC 20004, and John V. Edwards, Three Commercial Place, Norfolk, VA 23510.

FOR FURTHER INFORMATION CONTACT: Joseph H. Dettmar, (202) 565-1609. [Assistance for the hearing impaired is available through the Federal Information Relay Service (FIRS) at 1-800-877-8339.]

SUPPLEMENTARY INFORMATION: Additional information is contained in the Board's decision served on October 5, 2006. To purchase a copy of the full decision, write, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at www.stb.dot.gov.

Decided: October 4, 2006.
By the Board, Chairman Nottingham, Vice Chairman Mulvey, Commissioner Buttrey.
Vernon A. Williams,
Secretary.

[FR Doc. E6-16817 Filed 10-10-06; 8:45 am]

BILLING CODE 4915-01-P